ENVIRONMENTAL PROTECTION AGENCY

[EPA-HQ-OPP-2012-0003; FRL-9359-8]

SFIREG POM Working Committee; Notice of Public Meeting

AGENCY: Environmental Protection Agency (EPA).

ACTION: Notice.

SUMMARY: The Association of American Pesticide Control Officials (AAPCO)/State FIFRA Issues Research and Evaluation Group (SFIREG), Pesticides Operations and Management (POM) Working Committee will hold a 2-day meeting, beginning on September 17, 2012, and ending September 18, 2012. This notice announces the location and times for the meeting and sets forth the tentative agenda topics.

DATES: The meeting will be held on Monday, September 17, 2012, from 8:30 a.m. to 5 p.m. and 8:30 a.m. to 12 noon on Tuesday, September 18, 2012.

To request accommodation of a disability, please contact the person listed under FOR FURTHER INFORMATON CONTACT, preferably at least 10 days prior to the meeting, to give EPA as much time as possible to process your request.

ADDRESSES: The meeting will be held at EPA, One Potomac Yard (South Bldg.), First Floor South Conference Room, 2777 Crystal Dr., Arlington, VA.

FOR FURTHER INFORMATION CONTACT: Ron Kendall, Field External Affairs Division (7506P), Office of Pesticide Programs, Environmental Protection Agency, 1200 Pennsylvania Ave. NW., Washington, DC 20460-0001; telephone number: (703) 305-5561; fax number: (703) 305-5884; email address: kendall.ron@epa.gov. or Grier Stayton, SFIREG Executive Secretary, P.O. Box 466, Milford, DE 19963; telephone number: (302) 422-8152; fax number: (302) 422-2435; email address: stayton.grier@aapco-sfireg@comcast.net.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA) and those who sell, distribute or use pesticides, as well as any Non Government Organization.

This listing is not intended to be exhaustive, but rather provides a guide for readers regarding entities likely to be affected by this action. Other types of entities not listed in this unit could also be affected. If you have any questions regarding the applicability of this action to a particular entity, consult the person listed under FOR FURTHER INFORMATION CONTACT.

B. How can I get copies of this document and other related information?

The docket for this action, identified by docket identification (ID) number EPA-HQ-OPP-2012-0003, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Tentative Agenda Topics

1. State Lead Agency (SLA) label improvement activities/efforts;

2. Next steps as the result of the label improvement workshop. Do we need a workshop focusing on structural labels?

3. Identifying/negotiating regional commitments in cooperative agreements;

4. Reconciling SLA referrals to EPA for enforcement vs. SLA efforts to fix violative labels in a timely manner;

5. Risk mitigation on seed bag tags;

6. Persistent herbicides in compost (sources);

7. Methomyl issue paper;

8. Non-crop issue paper;

9. SLA availability to answer EPA/Registration Division questions. What process can be effective?

10. Update on Insect Repellency Mark Initiative.

III. How can I request to participate in this meeting?

This meeting is open for the public to attend. You may attend the meeting without further notification.

List of Subjects

Environmental protection.

Dated: August 14, 2012.
R. McNally,
Director, Field External Affairs Division, Office of Pesticide Programs.

[FR Doc. 2012-20908 Filed 8-23-12; 8:45 am]

BILLING CODE 6560-50-P